DEPARTMENT OF DEFENSE

Office of the Secretary

DoD Medicare-Eligible Retiree Health Care Board of Actuaries; Notice of Meeting

SUMMARY: A meeting of the Board has been scheduled to execute the provisions of Chapter 56, Title 10, United States Code (10 U.S.C. 1114 et seq.). The Board shall review DoD actuarial methods and assumptions to be used in the valuation of benefits under DoD retiree health care programs for Medicare-eligible beneficiaries. Persons desiring to: (1) Attend the DoD Medicare-Eligible Retiree Health Care Board of Actuaries meeting or, (2) make an oral presentation or submit a written statement for consideration at the meeting, must notify Bill Klunk at 703-696-7404 by April 25, 2003.

Notice of this meeting is required under the Federal Advisory Committee Act.

DATES: May 2, 2003, 10-1:30.

ADDRESSES: 1400 Key Boulevard, California Room, RAA-125, Arlington, VA 22209.

FOR FURTHER INFORMATION CONTACT: Bill Klunk, DoD Office of the Actuary, 1555 Wilson Boulevard, Suite 701, Arlington, VA 22209-2405, (703) 696-7404.

Dated: March 19, 2003.
Patricia L. Toppings,
Alternate OSD Federal Register Liaison Officer, Department of Defense

[FR Doc. 03-7095 Filed 3-25-03; 8:45 am]

BILLING CODE 5001-08-M